DEPARTMENT OF COMMERCE

International Trade Administration

[C-570-959]

Coated Paper Suitable for High-Quality Print Graphics Using Sheet-Fed Presses From the People's Republic of China: Rescission of Countervailing Duty Administrative Review; 2012

AGENCY: Enforcement and Compliance, International Trade Administration, Department of Commerce.

SUMMARY: The Department of Commerce (the Department) is rescinding the administrative review of the countervailing duty (CVD) order on coated paper suitable for high-quality print graphics using sheet-fed presses (coated paper) from the People's Republic of China (PRC) for the period January 1, 2012, through December 31, 2012.

DATES: Effective Date: May 14, 2014.

FOR FURTHER INFORMATION CONTACT: Joseph Shuler, AD/CVD Operations, Office I, Enforcement and Compliance, International Trade Administration, U.S. Department of Commerce, 14th Street and Constitution Avenue NW., Washington, DC 20230; telephone: (202) 482-1293.

SUPPLEMENTARY INFORMATION:

Background

The Department initiated an administrative review of the CVD order on coated paper from the PRC with respect to 10 companies for the period January 1, 2012, through December 31, 2012, based on a request by Appleton Coated LLC, NewPage Corporation, and S.D. Warren d/b/a Sappi Fine Paper North America, and United Steel, Paper and Forestry, Rubber, Manufacturing, Energy, Allied Industrial and Service Workers International Union, (collectively, Petitioners).¹

¹ See Initiation of Antidumping and Countervailing Duty Administrative Reviews and Request for Revocation in Part, 78 FR 79392, 79398 (December 30, 2013).

On March 28, 2014, Petitioners withdrew their request for an administrative review in its entirety.² No other party requested a review.

² See Letter from Petitioners, Coated Paper Suitable for High-Quality Print Graphics Using Sheet-Fed Presses From the People's Republic of China: Withdrawal of Request for Administrative Review, dated March 28, 2014.

Rescission of Review

Pursuant to 19 CFR 351.213(d)(l), the Department will rescind an administrative review, in whole or in part, if the party that requested a review withdraws its request within 90 days of the date of publication of the notice of initiation of the requested review. In this case, Petitioners withdrew their request within the 90-day deadline, and no other parties requested an administrative review of the CVD order. Therefore, we are rescinding the administrative review of the CVD order on coated paper from the PRC covering the period January 1, 2012, through December 31, 2012.

Assessment

The Department will instruct U.S. Customs and Border Protection (CBP) to assess CVDs on all entries of coated paper from the PRC during the period January 1, 2012, through December 31, 2012, at rates equal to the cash deposit of estimated CVDs required at the time of entry, or withdrawal from warehouse, for consumption in accordance with 19 CFR 351.212(c)(l)(i). The Department intends to issue appropriate assessment instructions to CBP 15 days after the date of publication of this notice.

Notifications

This notice serves as a final reminder to importers of their responsibility under 19 CFR 351.402(f)(2) to file a certificate regarding the reimbursement of CVDs prior to liquidation of the relevant entries during this review period.

This notice also serves as a final reminder to parties subject to administrative protective order (APO) of their responsibility concerning the return or destruction of proprietary information disclosed under an APO in accordance with 19 CFR 351.305(a)(3). Timely written notification of the return or destruction of APO materials or conversion to judicial protective order is hereby requested. Failure to comply with the regulations and terms of an APO is a violation which is subject to sanction.

This notice is issued and published in accordance with sections 751(a)(1) and 777(i)(l) of the Tariff Act of 1930, as amended, and 19 CFR 351.213(d)(4).

Dated: May 6, 2014.
Christian Marsh,
Deputy Assistant Secretary for Antidumping and Countervailing Duty Operations.

[FR Doc. 2014-11135 Filed 5-13-14; 8:45 am]

BILLING CODE 3510-DS-P